DEPARTMENT OF DEFENSE

Department of the Army

[DOD-2006-OS-0065]

Privacy Act of 1974; System of Records

AGENCY: Department of the Army, DoD.

ACTION: Notice to add a system of records.

SUMMARY: The Department of the Army is proposing to add a system of records to its existing inventory of records systems subject to the Privacy Act of 1974, (5 U.S.C. 552a), as amended.

DATES: The proposed action will be effective on May 22, 2006 unless comments are received that would result in a contrary determination.

ADDRESSES: Department of the Army, Freedom of Information/Privacy Division, U.S. Army Records Management and Declassification Agency, ATTN: AHRC-PDD-FPZ, 7701 Telegraph Road, Casey Building, Suite 144, Alexandria, VA 22325-3905.

FOR FURTHER INFORMATION CONTACT: Ms. Janice Thornton at (703) 428-6503.

SUPPLEMENTARY INFORMATION: The Department of the Army systems of records notices subject to the Privacy Act of 1974, (5 U.S.C. 552a), as amended, have been published in the Federal Register and are available from the address above.

The proposed system report, as required by 5 U.S.C. 552a(r) of the Privacy Act of 1974, as amended, was submitted on April 14, 2006, to the House Committee on Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: April 17, 2006.
L.M. Bynum,
OSD Federal Register Liaison Officer, Department of Defense.

A0015-8 ASA (ALT)

System Name:

Army Science Board (ASB) Files.

System Location:

Executive Secretary of the Army Science Board, Assistant Secretary of the Army (Acquisitions, Logistics and Technology), 2511 Jefferson Davis Highway, Presidential Towers, Arlington VA 22202-3911.

Categories of individuals covered by the system:

Distinguished individuals from private sector, academia, and non DoD government agencies with a strong scientific, engineering, industrial backgrounds, or background in other professional disciplines as needed.

Categories of records in the system:

Files contain names of individuals and their biographies and other professional information such as qualifications, expertise, experience and education. The files also consist of travel records of the ASB members to include home addresses, social security numbers and other personal information. Data may include prior professional experience, professional activities, developments and list of awards and recognition as well as extra government professional activities and significant professional publications.

Authority for maintenance of the system:

Public Law 92-463, Federal Advisory Committee Act; 10 U.S.C. 3013, Secretary of the Army; AR 15-8, Army Science Board; and E.O. 9397 (SSN).

Purpose:

To maintain records on the senior scientific advisory members that will advise and make recommendations to the Secretary of the Army, the Chief of Staff of the Army, the Assistant Secretary of the Army (Acquisition, Logistics and Technology (ASA/ALT)), the Army Staff, and Major commanders on scientific and technological matters concern the Department.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD Blanket Routine Uses' set forth at the beginning of the Army's compilation of systems of records notices apply to this system.

Policies and practices for storing, retrieving, accessing, retaining, and disposing of records in the system:

Storage:

Papers stored in file folders.

Retrievability:

By the Army Science Board members' surname.

Safeguards:

Records are maintained in areas accessible only to authorized persons having official need. Records are housed in buildings protected by security guards or locked when not in use.

Retention and Disposal:

Information is maintained during the tenure of the individual and then destroyed upon determination that the information is no longer needed by the Board.

System Managers and address:

Office of the Assistant Secretary Army, Acquisition, Logistics, and Technology, 2511 Jefferson Davis Highway, Presidential Towers, Arlington, VA 22202-3911.

Notification procedures:

Individuals seeking to determine whether information about themselves is contained in this system of records should address themselves is contained in this system of records should address written inquiries to the Office of the Assistant Secretary Army, Acquisition, Logistics, and Technology, 2511 Jefferson Davis Highway, Presidential Towers, Arlington, VA 22202-3911.

Record Access procedure:

Individuals seeking access to information about themselves in this system of records should address written inquiries to the Office of the Assistant Secretary Army, Acquisition, Logistics, and Technology, 2511 Jefferson Davis Highway, Presidential Towers, Arlington, VA 22202-3911.

Contesting Record Procedures:

The Army's rules for accessing records and for contesting contents and appealing initial agency determinations are contained in Army Regulation 340-21; 32 CFR part 505 or may be obtained from the system manager.

Record Source Categories:

From the individual.

Exemptions claimed for the system:

None.

[FR Doc. 06-3804 Filed 4-20-06; 8:45 am]

BILLING CODE 5001-01-M